ENVIRONMENTAL PROTECTION AGENCY

[EPA-HQ-RCRA-2006-0796; FRL-8462-2]

RIN 2050-AE81

Notice of Data Availability on the Disposal of Coal Combustion Wastes in Landfills and Surface Impoundments

Correction

In notice document E7-17138 beginning on page 49714 in the issue of Wednesday, August 29, 2007, make the following corrections:

1. On page 49718, in the first column, in the fourth full paragraph, in the seventh line, “5 × 10minus;4≤” should read “5 × 10⁻⁴”.

2. On the same page, in the same column, in the same paragraph, in the eighth line, “2 × 10minus;4” should read “2 × 10⁻⁴”.

[FR Doc. Z7-17138 Filed 9-11-07; 8:45 am]

BILLING CODE 1505-01-D

DEPARTMENT OF JUSTICE

Notice of Lodging of Consent Decree Under the Comprehensive Environmental Response, Compensation, and Liability Act and the Resource Conservation and Recovery Act

Correction

In notice document 07-4119 beginning on page 48301 in the issue of Thursday, August 23, 2007, make the following correction:

On page 48301, in the third column, in the first full paragraph, in the ninth line, “pubcomment-ess.enrd@usdoj.gov” should read “pubcomment-ees.enrd@usdoj.gov”.

[FR Doc. C7-4119 Filed 9-11-07; 8:45 am]

BILLING CODE 1505-01-D